DEPARTMENT OF DEFENSE

Office of the Secretary

Defense Science Board

AGENCY: Office of the Secretary, Department of Defense.

ACTION: Notice of Advisory Committee meeting.

SUMMARY: The Defense Science Board Task Force on Managed Information Dissemination Follow-On Initiative will meet in closed session on April 11-12, 2001, at SAIC, 4001 N. Fairfax Drive, Arlington, VA.

The mission of the Defense Science Board is to advise the Secretary of Defense and the Under Secretary of Defense for Acquisition, Technology & Logistics on scientific and technical matters as they affect the perceived needs of the Department of Defense. At this meeting, the Defense Science Board Task Force will review the need and feasibility of a coordinated information dissemination capability within the U.S. Government encompassing tactical, operational, and strategic information. Specifically, they will investigate detailed actionable recommendations with respect to enabling “channels” and establishing appropriate “brand identity”; DoD's role in a U.S. strategic information dissemination capability; policy, legal, and economic issues hindering U.S. capabilities; and identify new and emerging technologies capable of enhancing U.S. capabilities.

In accordance with section 10(d) of the Federal Advisory Committee Act, Pub. L. No. 92-463, as amended (5 U.S.C. App. II), it has been determined that this Defense Science Board meeting, concerns matters listed in 5 U.S.C. 552b(c)(1), and that accordingly this meeting will be closed to the public.

Due to critical mission requirements and scheduling difficulties, there is insufficient time to provide timely notice required by section 10(a)(2) of the Federal Advisory Committee Act and Subsection 101-6.1015(b) of the GSA Final Rule on Federal Advisory Committee Management, 41 CFR Part 101-6, which further requires publication at least 15 calendar days prior to this meeting.

Dated: April 3, 2001.
L.M. Bynum,
Alternate OSD Federal Register Liaison Officer, Department of Defense.

[FR Doc. 01-8625 Filed 4-6-01; 8:45 am]

BILLING CODE 5001-10-M